DEPARTMENT OF COMMERCE

International Trade Administration

[A-122-857]

Certain Softwood Lumber Products From Canada: Amended Final Results of Antidumping Duty Administrative Review in Part; 2022

AGENCY: Enforcement and Compliance, International Trade Administration, Department of Commerce.

SUMMARY: The U.S. Department of Commerce (Commerce) is amending the final results of the administrative review of the antidumping duty (AD) order on certain softwood lumber products (softwood lumber) from Canada to correct certain ministerial errors. The period of review (POR) is January 1, 2022, through December 31, 2022.

DATES: Applicable September 24, 2024.

FOR FURTHER INFORMATION CONTACT: Maisha Cryor, AD/CVD Operations, Office IV, Enforcement and Compliance, International Trade Administration, U.S. Department of Commerce, 1401 Constitution Avenue NW, Washington, DC 20230; telephone: (202) 482-5831.

SUPPLEMENTARY INFORMATION:

Background

On August 19, 2024, Commerce published, in the Federal Register, the final results of the administrative review of the AD order on softwood lumber from Canada for the POR.¹ On August 21, 2024, we received a timely submitted ministerial error allegation from West Fraser Mills, Ltd. (West Fraser), a mandatory respondent in this administrative review.² We are amending the Final Results to correct the ministerial error alleged by West Fraser.³

¹ See Certain Softwood Lumber Products from Canada: Final Results of Antidumping Duty Administrative Review, Partial Rescission of Administrative Review and Final Determination of No Shipments; 2022, 89 FR 67067 (August 19, 2024) (Final Results), and accompanying Issues and Decision Memorandum (IDM).

² See West Fraser's Letter, “Request for Correction of Ministerial Errors in the Antidumping Duty Administrative Review Calculations,” dated August 21, 2024, at Attachment I (West Fraser Ministerial Error Allegation).

³ See Memorandum, “Antidumping Duty Administrative Review of Certain Softwood Lumber Products from Canada: Analysis of Ministerial Error Allegations,” dated concurrently with this notice (Ministerial Error Memorandum).

Legal Framework

Section 751(h) of the Tariff Act of 1930, as amended (the Act), defines a “ministerial error” as including “errors in addition, subtraction, or other arithmetic function, clerical errors resulting from inaccurate copying, duplication, or the like, and any other unintentional error which the administering authority considers ministerial.” ⁴ With respect to final results of administrative reviews, 19 CFR 351.224(e) provides that Commerce “will analyze any comments received and, if appropriate, correct any . . . ministerial error by amending the final results of review . . .”

⁴ See 19 CFR 351.224(f).

Ministerial Errors

In the Final Results, we made certain revisions to our preliminary results calculations for West Fraser, including setting the stage of the proceeding in the comparison market program to final.⁵ In its ministerial error comments, West Fraser alleged that Commerce failed to make the same adjustment in the corresponding margin calculation program, i.e., setting the stage of the review segment in the margin program to “final.” ⁶ West Fraser alleged that by failing to set the stage of the review segment to final (instead of preliminary) in the margin calculation program, Commerce inadvertently accessed certain databases from the preliminary results margin program.⁷ West Fraser also alleged that the preliminary results margin program databases at issue did not incorporate the calculation changes that Commerce made for the Final Results.⁸

⁵ See Memorandum, “Analysis for the Final Results of the Fifth Antidumping Duty Administrative Review—West Fraser Mills Ltd.,” dated August 12, 2024, at Attachment I.

⁶ See West Fraser Ministerial Error Allegation.

⁷ Id.

⁸ Id.

We agree with West Fraser that we made a ministerial error in the Final Results, pursuant to section 751(h) of the Act and 19 CFR 351.224(f), and have amended our calculations to correct the stage of the review segment section of the margin program.⁹ As a result, we also revised our calculation of the dumping margin for the non-selected companies.¹⁰

⁹ See Ministerial Error Memorandum; see also Memorandum, “West Fraser Amended Final Calculation Memorandum,” dated concurrently with this notice (WF Amended Final Calculation Memorandum).

¹⁰ See Memorandum, “Calculation of the Rate for Non-Selected Respondents,” dated concurrently with this notice (Non-Selected Rate Analysis Memorandum). A list of the non-selected companies under review is included here as an appendix.

Pursuant to 19 CFR 351.224(e), we are amending the Final Results to correct this ministerial error in the calculation of the weighted-average dumping margin for West Fraser, which changes from 5.32 percent to 5.04 percent.¹¹ Furthermore, we are also amending the rate for the companies not selected for individual examination in this review based on the weighted-average dumping margins calculated for the mandatory respondents,¹² which changes from 7.80 percent to 7.66 percent.¹³ For a complete discussion of the ministerial error allegation, as well as Commerce's analysis, see the accompanying Ministerial Error Memorandum.¹⁴ The Ministerial Error Memorandum is a public document and is on file electronically via Enforcement and Compliance's Antidumping and Countervailing Duty Centralized Electronic Service System (ACCESS). ACCESS is available to registered users at https://access.trade.gov.

¹¹ See Ministerial Error Memorandum; see also WF Amended Final Calculation Memorandum.

¹² The margin for the other mandatory respondent, Canfor Corporation, remains unchanged from the Final Results and continues to be 10.44 percent.

¹³ See Non-Selected Rate Analysis Memorandum.

¹⁴ See Ministerial Error Memorandum; see also WF Amended Final Calculation Memorandum.

Amended Final Results of Review

As a result of correcting the ministerial errors described above, we determine the following estimated weighted-average dumping margins for the period January 1, 2022, through December 31, 2022:

¹⁵ See Appendix.

Exporter or producer | Weighted- average dumping margin (percent)
West Fraser Mills, Ltd | 5.04
Companies Not Selected for Individual Review¹⁵ | 7.66

Disclosure

We intend to disclose the calculations performed in connection with these amended final results of review to parties in this review within five days of the date of publication of this notice in the Federal Register, in accordance with 19 CFR 351.224(b).

Assessment Rates

Pursuant to section 751(a)(2)(C) of the Act, and 19 CFR 351.212(b)(1), Commerce has determined, and U.S. Customs and Border Protection (CBP) shall assess, antidumping duties on all appropriate entries of subject merchandise in accordance with the amended final results of this review.

We intend to calculate importer- (or customer-) specific assessment rates on the basis of the ratio of the total amount of antidumping duties calculated for each importer's (or customer's) examined sales and the total entered value of the sales in accordance with 19 CFR 351.212(b)(1). Where an importer- (or customer-) specific rate is zero or de minimis within the meaning of 19 CFR 351.106(c)(1), we will instruct CBP to liquidate the appropriate entries without regard to antidumping duties.

For the companies not selected for individual review, we used an assessment rate based on the weighted average dumping margins of the mandatory respondents, based on their publicly ranged sales data.¹⁶ The amended final results of this review shall be the basis for the assessment of antidumping duties on entries of merchandise covered by the amended final results of this review and for the future deposits of estimated duties where applicable.¹⁷

¹⁶ See Non-Selected Rate Analysis Memorandum.

¹⁷ See section 751(a)(2)(C) of the Act.

Commerce's “reseller policy” will apply to entries of subject merchandise during the POR produced by companies included in these final results of review for which the reviewed companies did not know that the merchandise they sold to the intermediary (e.g., a reseller, trading company, or exporter) was destined for the United States. In such instances, we will instruct CBP to liquidate unreviewed entries at the all-others rate if there is no rate for the intermediate company(ies) involved in the transaction.¹⁸

¹⁸ For a full discussion of this practice, see Antidumping and Countervailing Duty Proceedings: Assessment of Antidumping Duties, 68 FR 23954 (May 6, 2003).

Commerce intends to issue assessment instructions to CBP no earlier than 41 days after the date of publication of the amended final results of this review in the Federal Register in accordance with 19 CFR 356.8(a). If a timely summons is filed at the U.S. Court of International Trade, the assessment instructions will direct CBP not to liquidate relevant entries until the time for parties to file a request for a statutory injunction has expired (i.e., within 90 days of publication).

Cash Deposit Requirements

The following amended cash deposit requirements will be effective for all shipments of the subject merchandise entered, or withdrawn from warehouse, for consumption on or after August 19, 2024, the publication date of the Final Results, as provided by section 751(a)(2)(C) of the Act: (1) the amended cash deposit rate for the companies listed above will be equal to the weighted-average dumping margin established in these amended final results of review; (2) for merchandise exported by producers or exporters not covered in this review but covered in a prior completed segment of the proceeding, the cash deposit rate will continue to be the company-specific rate published in the completed segment for the most recent period; (3) if the exporter is not a firm covered in this review, a prior review, or the original investigation but the producer has been covered in a prior completed segment of this proceeding, then the cash deposit rate will be the rate established in the completed segment for the most recent period for the producer of the merchandise; and (4) the cash deposit rate for all other manufacturers or exporters will continue to be 6.04 percent ad valorem, the all-others rate established in the less-than-fair-value investigation.¹⁹ These cash deposit requirements, when imposed, shall remain in effect until further notice.

¹⁹ See Certain Softwood Lumber Products from Canada: Final Affirmative Determination of Sales at Less Than Fair Value and Affirmative Final Determination of Critical Circumstances, 82 FR 51806 (November 8, 2017).

Notification to Importers

This notice also serves as a final reminder to importers of their responsibility under 19 CFR 351.402(f)(2) to file a certificate regarding the reimbursement of antidumping and/or countervailing duties prior to liquidation of the relevant entries during this review period. Failure to comply with this requirement could result in Commerce's presumption that reimbursement of antidumping and/or countervailing duties occurred and the subsequent assessment of double antidumping duties, and/or an increase in the amount of antidumping duties by the amount of the countervailing duties.

Notice Regarding Administrative Protective Order

This notice serves as the only reminder to parties subject to administrative protective order (APO) of their responsibility concerning the disposition of proprietary information disclosed under APO in accordance with 19 CFR 351.305(a)(3), which continues to govern business proprietary information in this segment of the proceeding. Timely written notification of return/destruction of APO materials or conversion to judicial protective order is hereby requested. Failure to comply with the regulations and the terms of an APO is a sanctionable violation.

Notification to Interested Parties

We are issuing and publishing these amended final results of review in accordance with sections 751(h) and 777(i) of the Act and 19 CFR 351.224(e).

Dated: September 18, 2024.
Ryan Majerus,
Deputy Assistant Secretary for Policy and Negotiations performing the non-exclusive functions and duties of the Assistant Secretary for Enforcement and Compliance.

Appendix

Non-Selected Exporters/Producers

1. 0752615 B.C Ltd; Fraserview Remanufacturing Inc; Fraserview Cedar Products ²⁰

²⁰ “DBA” has been removed from the name 0752615 B.C Ltd; Fraserview Remanufacturing Inc; DBA Fraserview Cedar Products referred to in the Preliminary Results, at the request of CBP. See Final Results IDM at Comment 10.

2. 10104704 Manitoba Ltd.; Woodstock Forest Products ²¹

²¹ “O/A” has been removed from the name 10104704 Manitoba Ltd O/A Woodstock Forest Product referred to in the Preliminary Results, at the request of CBP. See Final Results IDM at Comment 10.

3. 1074712 BC Ltd.; Quadra Cedar

4. 5214875 Manitoba Ltd.

5. Absolute Lumber Products Ltd.

6. Adwood Manufacturing Ltd.

7. AJ Forest Products Ltd.

8. Aler Forest Products Ltd.

9. Alpa Lumber Mills Inc.

10. Andersen Pacific Forest Products Ltd.

11. Antrim Cedar Corporation

12. Aquila Cedar Products Ltd.

13. Arbec Lumber Inc.; Arbec Bois Doeuvre Inc.

14. Aspen Pacific Industries Inc.

15. Aspen Planers Ltd.

16. B&L Forest Products Ltd.

17. B.B. Pallets Inc.; Les Palettes B.B.Inc.

18. Babine Forest Products Limited

19. Bakerview Forest Products Inc.

20. Barrette-Chapais Ltee

21. BarretteWood Inc.

22. Benoît & Dionne Produits Forestiers Ltee; Benoît & Dionne Forest Products Ltd.

23. Blanchet Multi Concept Inc.

24. Blanchette & Blanchette Inc.

25. Bois Aise de Montreal Inc.

26. Bois Bonsaï Inc.

27. Bois Daaquam Inc.; Daaquam Lumber Inc.

28. Bois D'oeuvre Cedrico Inc.; Cedrico Lumber Inc.

29. Bois et Solutions Marketing SPEC, Inc.; SPEC Wood & Marketing Solution; SPEC Wood and Marketing Solutions Inc.

30. Bois Weedon Inc.

31. Boisaco Inc.

32. Boscus Canada Inc.

33. Boucher Bros. Lumber Ltd.

34. BPWood Ltd.

35. Bramwood Forest Inc.

36. Brink Forest Products Ltd.

37. Brunswick Valley Lumber Inc.

38. Burrows Lumber (CD) Ltd., Theo A. Burrows Lumber Company Limited

39. Busque & Laflamme Inc.

40. Canadian Bavarian Millwork & Lumber Ltd.

41. Canyon Lumber Company Ltd.

42. Carrier & Begin Inc.

43. Carrier Forest Products Ltd.

44. Carrier Lumber Ltd.

45. Carter Forest Products Inc.

46. Cedarland Forest Products Ltd.

47. Cedarline Industries Ltd.

48. Central Alberta Pallet Supply

49. Central Cedar Ltd.

50. Central Forest Products Inc.

51. Centurion Lumber Ltd.

52. Chaleur Forest Products Inc.

53. Chaleur Forest Products LP

54. Channel-ex Trading Corporation

55. Clair Industrial Development Corp. Ltd.

56. Clermond Hamel Ltee

57. CLG Enterprises Inc.

58. Columbia River Shake & Shingle Ltd.; Teal Cedar Products Ltd.; ²² The Teal Jones Group ²³

²² “DBA” has been removed from the name Columbia River Shake & Shingle Ltd./Teal Cedar Products Ltd., DBA the Teal Jones Group referred to in the Preliminary Results at the request of CBP. See Final Results IDM at Comment 10.

²³ Because we are now treating the three companies as one entity for customs purposes, we have removed from the Automated Commercial Environment (ACE) module case number individual company case numbers for Teal Cedar Products Ltd. (A-122-857-224) and The Teal Jones Group (A-122-857-227) and have instructed CBP to enter all entries for all three companies under the ACE module case number A-122-857-349.

59. Commonwealth Plywood Co. Ltd.

60. Conifex Fibre Marketing Inc.

61. Coulson Manufacturing Ltd.

62. Cowichan Lumber Ltd.

63. CS Manufacturing Inc.; Cedarshed ²⁴

²⁴ “dba” has been removed from the name CS Manufacturing Inc. (dba Cedarshed) referred to in the Preliminary Results at the request of CBP. See Final Results IDM at Comment 10.

64. CWP—Industriel Inc.

65. D & D Pallets Ltd.

66. Dakeryn Industries Ltd.

67. Decker Lake Forest Products Ltd.

68. Deep Cove Forest Products, Inc.

69. Delco Forest Products Ltd.

70. Delta Cedar Specialties Ltd.

71. Devon Lumber Co. Ltd.

72. Doubletree Forest Products Ltd.

73. Downie Timber Ltd.

74. Dunkley Lumber Ltd.

75. EACOM Timber Corporation

76. East Fraser Fiber Co. Ltd.

77. Edgewood Forest Products Inc.

78. ER Probyn Export Ltd.

79. Falcon Lumber Ltd.

80. Fontaine Inc.

81. Foothills Forest Products Inc.

82. Forest Products Mauricie LP; Societe en commandite Scierie Opitciwan; Resolute Growth Canada Inc.; Resolute FP Canada Inc.; Resolute-LP Engineered Wood Larouche Inc.; Resolute-LP Engineered Wood St-Prime Limited Partnership

83. Fort St. James Forest Products Limited Partnership

84. Fraser Specialty Products Ltd.

85. FraserWood Industries Ltd.

86. Furtado Forest Products Ltd.

87. Galloway Lumber Company Ltd.

88. Goldwood Industries Ltd.

89. Goodfellow Inc.

90. Gorman Bros. Lumber Ltd.

91. Greendale Industries Inc.

92. GreenFirst Forest Products (QC) Inc.

93. Greenwell Resources Inc.

94. Griff Building Supplies Ltd.

95. Groupe Crete Chertsey Inc.

96. Groupe Crete Division St-Faustin Inc.

97. Groupe Lebel Inc.

98. H.J. Crabbe & Sons Ltd.

99. Haida Forest Products Ltd.

100. Halo Sawmill, a division of Delta Cedar Specialties Ltd.; Halo Sawmill Manufacturing Limited Partnership

101. Hampton Tree Farms, LLC; Hampton Lumber Sales Canada ²⁵

²⁵ “dba” has been removed from the name Hampton Tree Farms, LLC (dba Hampton Lumber Sales Canada) referred to in the Preliminary Results at the request of CBP. See Final Results IDM at Comment 10.

102. Hornepayne Lumber LP

103. Hy Mark Wood Products Inc.

104. Independent Building Materials Distribution Inc.

105. Interfor Corporation; Interfor Sales & Marketing Ltd.²⁶

²⁶ In Softwood Lumber from Canada AR4, we determined that it was appropriate to treat Interfor Corporation and Interfor Sales & Marketing Ltd. as one entity. See Certain Softwood Lumber Products from Canada: Final Results of Antidumping Duty Administrative Review and Final Determination of No Shipments; 2021, 88 FR 50106 (August 1, 2023) (Softwood Lumber from Canada AR4), at Appendix II. Thus, we have removed from the ACE module case number for Interfor Sales & Marketing Ltd. (A-122-857-299) and have instructed CBP to enter all entries for Interfor Corporation and Interfor Sales & Marketing Ltd. under the ACE module case number for Interfor Corporation and Interfor Sales & Marketing Ltd. (A-122-857-118).

106. Ivor Forest Products Ltd.

107. J&G Log Works Ltd.

108. J.D. Irving, Limited

109. J.H. Huscroft Ltd.

110. Jan Woodlands (2001) Inc.

111. Jasco Forest Products Ltd.

112. Jazz Forest Products Ltd.

113. Jhajj Lumber Corporation

114. Kalesnikoff Lumber Co. Ltd.

115. Kan Wood Ltd.

116. Kebois Ltee; Kebois Ltd.

117. Kelfor Industries Ltd.

118. Kermode Forest Products Ltd.

119. Keystone Timber Ltd.

120. La Crete Sawmills Ltd.

121. Lafontaine Lumber Inc.

122. Langevin Forest Products Inc.

123. Lecours Lumber Co. Limited

124. Leisure Lumber Ltd.

125. Les Bois d'oeuvre Beaudoin Gauthier Inc.

126. Les Bois Martek Lumber

127. Les Chantiers de Chibougamau Ltee; Les Chantiers de Chibougamau Ltd.

128. Les Industries P.F. Inc.

129. Les Produits Forestiers D&G Ltee; D&G Forest Products Ltd.

130. Leslie Forest Products Ltd.

131. Lignum Forest Products LLP

132. Linwood Homes Ltd.

133. Lonestar Lumber lnc.

134. Lulumco Inc.

135. Madera Forest Products INC

136. Magnum Forest Products Ltd.

137. Maibec Inc.

138. Manitou Forest Products Ltd.

139. Marcel Lauzon Inc.

140. Marwood Ltd.

141. Materiaux Blanchet Inc.

142. Mid Valley Lumber Specialties Ltd.

143. Midway Lumber Mills Ltd.

144. Mill & Timber Products Ltd.

145. Millar Western Forest Products Ltd.

146. Mirax Lumber Products Ltd.

147. Mobilier Rustique (Beauce) Inc.

148. Monterra Lumber Mills Limited

149. Morwood Forest Products Inc.

150. Multicedre Ltee

151. Murray Brothers Lumber Company Ltd.

152. Nakina Lumber Inc.

153. National Forest Products Ltd.

154. Nicholson and Cates Ltd.

155. Norsask Forest Products Inc.

156. Norsask Forest Products Limited Partnership

157. North American Forest Products Ltd. (located in Abbotsford, British Columbia)

158. North American Forest Products Ltd. (located in Saint-Quentin, New Brunswick)

159. North Enderby Timber Ltd.

160. Northland Forest Products Ltd.

161. Oakwood Manufacturing A Division of Weston Forest Products Inc.

162. Olympic Industries Inc.

163. Olympic Industries ULC

164. Oregon Canadian Forest Products; Oregon Canadian Forest Products Inc.

165. Pacific NorthWest Lumber Ltd.

166. Pacific Western Wood Works Ltd.

167. PalletSource Inc.

168. Parallel Wood Products Ltd.

169. Partap Forest Products Ltd.

170. Partap Industries

171. Peak Industries (Cranbrook) Ltd.

172. Phoenix Forest Products Inc.

173. Pine Ideas Ltd.

174. Pioneer Pallet & Lumber Ltd.

175. Porcupine Wood Products Ltd.

176. Portbec Forest Products Ltd.; Les Produits Forestiers Portbec Ltee

177. Power Wood Corp.

178. Precision Cedar Products Corp.

179. Produits Forestiers Petit Paris Inc.

180. Produits Matra Inc.

181. Promobois G.D.S. Inc.

182. R.A. Green Lumber Ltd.

183. Rembos Inc.

184. Rene Bernard Inc.

185. Rielly Industrial Lumber Inc.

186. River City Remanufacturing Inc.

187. S&R Sawmills Ltd.

188. San Group

189. San Industries Ltd.

190. Sawarne Lumber Co. Ltd.

191. Scierie Alexandre Lemay & Fils Inc.

192. Scierie St-Michel Inc.

193. Scierie West Brome Inc.

194. Scott Lumber Sales; Scott Lumber Sales Ltd.

195. Sechoirs de Beauce Inc.

196. Shakertown Corp.

197. Sigurdson Forest Products Ltd.

198. Silvaris Corporation

199. Sinclar Group Forest Products Ltd.

200. Skana Forest Products Ltd.

201. Skeena Sawmills Ltd.

202. Smart Wood Forest Products Ltd.

203. South Beach Trading Inc.

204. Specialiste du Bardeau de Cedre Inc.; Specialiste du Bardeau de Cedre Inc. (SBC)

205. Spruceland Millworks Inc.

206. Suncoast Industries Inc.

207. Sundher Timber Products Inc.

208. Surrey Cedar Ltd.

209. T.G. Wood Products Ltd.²⁷

²⁷ The ACE module contains separate case numbers for T.G. Wood Products Ltd. (A-122-857-220) and TG Wood Products (A-122-857-360), which was caused by data entry errors and we have never treated T.G. Wood Products and TG Wood Products as separate companies; rather we named T.G. Wood Products Ltd. as the sole respondent in the first and second administrative reviews of this proceeding and TG Wood Products. See Certain Softwood Lumber Products from Canada: Final Results of Antidumping Duty Administrative Review; 2017-2018, 85 FR 76519 (November 30, 2020); Certain Softwood Lumber Products from Canada: Final Results of Antidumping Duty Administrative Review; 2019, 86 FR 68471 (December 2, 2021); and Softwood Lumber from Canada AR4. We have removed TG Wood Products (A-122-857-360) from the module and instructed CBP to enter all entries under the case number A-122-857-220.

210. Taan Forest Limited Partnership; Taan Forest Products ²⁸

²⁸ “aka” has been removed from the name Taan Forest Limited Partnership (aka Taan Forest Products) referred to in at the request of CBP. See Issues and Decision Memorandum at Comment 10.

211. Taiga Building Products Ltd.

212. Tall Tree Lumber Company

213. Tenryu Canada Corporation

214. Terminal Forest Products Ltd.

215. The Wood Source Inc.

216. Tolko Industries Ltd.; Tolko Marketing and Sales Ltd.; Gilbert Smith Forest Products Ltd.

217. Top Quality Lumber Ltd.

218. Trans-Pacific Trading Ltd.

219. Triad Forest Products Ltd.

220. Twin Rivers Paper Co. Inc.

221. Tyee Timber Products Ltd.

222. Universal Lumber Sales Ltd.

223. Usine Sartigan Inc.

224. Vaagen Fibre Canada ULC

225. Vancouver Specialty Cedar Products Ltd.

226. Vanderhoof Specialty Wood Products Ltd.

227. Vanderwell Contractors (1971) Ltd.

228. Visscher Lumber Inc.

229. W.I. Woodtone Industries Inc.

230. Waldun Forest Product Sales Ltd.

231. West Bay Forest Products Ltd.

232. West Coast Panel Cutters

233. Western Forest Products Inc.

234. Western Lumber Sales Limited

235. Westminster Industries Ltd.

236. Weston Forest Products Inc.

237. Westrend Exteriors Inc

238. Weyerhaeuser Co.

239. White River Forest Products L.P.

240. Woodline Forest Products Ltd.

241. Woodtone Specialties Inc.

[FR Doc. 2024-21819 Filed 9-23-24; 8:45 am]

BILLING CODE 3510-DS-P